DEPARTMENT OF DEFENSE

Department of the Air Force

Privacy Act of 1974; System of Records

AGENCY: Department of the Air Force, DoD.

ACTION: Notice to delete and amend systems of records.

SUMMARY: The Department of the Air Force is deleting three systems of records notices from its existing inventory of record systems and amending one notice subject to the Privacy Act of 1974, (5 U.S.C. 552a), as amended.

DATES: These proposed actions will be effective without further notice on April 28, 2003, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: March 19, 2003.
Patricia L. Toppings,
Alternate OSD Federal Register Liaison Officer, Department of Defense.

Deletions

F036 AFAA B

System name:

Air Force Audit Agency Office Training File (June 11, 1997, 62 FR 31793).

Reason: These records are covered under the Inspector General, DoD Privacy Act system of records notice CIG 20, entitled ‘Defense Audit Management Information System (DAMIS)’ published on November 29, 2002, 67 FR 71151. Therefore, this system of records notice is being deleted.

F036 AFAA C

System name:

Employee Training and Career Development File (July 19, 1999, 64 FR 38657).

Reason: These records are covered under the Inspector General, DoD Privacy Act system of records notice CIG 20, entitled ‘Defense Audit Management Information System (DAMIS)’ published on November 29, 2002, 67 FR 71151. Therefore, this system of records notice is being deleted.

F065 AFAA A

System name:

Air Force Audit Agency Management Information System—Report File (June 11, 1997, 62 FR 31793).

Reason: These records are covered under the Inspector General, DoD Privacy Act system of records notice CIG 20, entitled ‘Defense Audit Management Information System (DAMIS)’ published on November 29, 2002, 67 FR 71151. Therefore, this system of records notice is being deleted.

Amendment

F090 AF IG B

System name:

Inspector General Records (January 11, 2002, 67 FR 1444).

Changes:

* * * * *

Categories of individuals covered in the system:

Delete from entry ‘on matters related to the Department of the Air Force’.

Purpose(s):

Delete from entry ‘involving matters concerning the Department of the Air Force and in some instances the Department of Defense’.

* * * * *

Storage:

Delete ‘Automated Complaints Tracking System (ACTS) database’ and add ‘electronic media’.

* * * * *

Safeguards:

Delete ‘the ACTS database’ and add ‘electronic media’.

* * * * *

F090 AF IG B

System name:

Inspector General Records.

System location:

Office of the Inspector General, Office of the Secretary of the Air Force (SAF/IG), 1140 Air Force Pentagon, Washington, DC 20330-1140. Records are also located at the headquarters of major commands, headquarters of combatant commands for which Air Force is Executive Agent, and at all levels down to and including Air Force installations. Official mailing addresses are published as an appendix to the Air Force's compilation of record systems notices.

Categories of individuals covered by the system:

All those who have registered a complaint, allegation or query with the Inspector General or Base Inspector. All individuals who are or have been subjects of reviews, inquiries, or investigations.

Categories of records in the system:

Letters/transcriptions of complaints, allegations and queries; letters of appointment; reports of reviews, inquiries and investigations with supporting attachments, exhibits and photographs; record of interviews; witness statements; reports of legal review of case files, congressional responses; memoranda; letters and reports of findings and actions taken; letters to complainants and subjects of investigations; letters of rebuttal from subjects of investigations; finance; personnel; administration; adverse information, and technical reports.

Authority for maintenance of the system:

10 U.S.C. 8013, Secretary of the Air Force: powers and duties; delegation by, 10 U.S.C. 8020, Inspector General, and E.O. 9397 (SSN).

Purpose(s):

Used to insure just, thorough, and timely resolution and response to complaints, allegations or queries, and a means of improving morale, welfare, and efficiency of organizations, units, and personnel by providing an outlet for redress. Used by the Inspector General and Base Inspectors in the resolution of complaints and allegations and responding to queries. Used in connection with the recommendation/selection/removal or retirement of officers eligible for promotion to or serving in, general officer ranks.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of record system notices apply to this system.

Policies and practices for storing, retrieving, accessing, retaining, and disposing of records in the system:

Storage:

Maintained in file folders and on electronic media.

Retrievability:

Retrieved by Complainant's name, subject of investigation's name and case number.

Safeguards:

Records are accessed by custodian of the system of records and by person(s) responsible for maintaining the system of records in the performance of their official duties. These personnel are properly screened and cleared for need-to-know. Records are stored in a locked room protected by cipher lock. Information maintained on electronic media is protected by computer system software and password.

Retention and disposal:

Retained in office files for two years after year in which case is closed. For senior official case files, retained in office files until two years after the year in which case is closed, or two years after the senior official retires, whichever is later. Records are destroyed by tearing into pieces, shredding, pulping, macerating or burning. Computer records are destroyed by erasing, deleting or overwriting.

System manager(s) and address:

The Inspector General, Office of the Secretary of the Air Force (SAF/IG), 1140 Air Force Pentagon, Washington, DC 20330-1140.

Notification procedure:

Individuals seeking to determine whether this system of records contains information on them should address inquiries to or visit the Inspector General, Office of the Secretary of the Air Force (SAF/IG), 1140 Air Force Pentagon, Washington, DC 20330-1140 or IG offices at installations.

Record access procedures:

Individuals seeking to access records about themselves contained in this system should address requests to the Inspector General, Office of the Secretary of the Air Force (SAF/IG), 1140 Air Force Pentagon, Washington, DC 20330-1140 or IG offices at installations.

Contesting record procedures:

The Air Force rules for accessing records, and for contesting contents and appealing initial agency determinations are published in Air Force Instruction 37-132; 32 CFR part 806b; or may be obtained from the system manager.

Record source categories:

Complainants, inspectors, members of Congress, witnesses, and subjects of investigations.

Exemptions claimed for the system:

Parts of this system may be exempt pursuant to 5 U.S.C. 552a(j)(2) if the information is compiled and maintained by a component of the agency, which performs as its principle function any activity pertaining to the enforcement of criminal laws.

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identify of a confidential source.

Note: When claimed, this exemption allows limited protection of investigative reports maintained in a system of records used in personnel or administrative actions.

An exemption rule for this record system has been promulgated in accordance with the requirements of 5 U.S.C. 553(b)(1), (2), and (3), (c) and (e) and published in 32 CFR part 806b. For additional information contact the system manager.

[FR Doc. 03-7106 Filed 3-26-03; 8:45 am]

BILLING CODE 5001-08-P